DEPARTMENT OF TRANSPORTATION

Federal Railroad Administration

49 CFR Part 214

Railroad Workplace Safety

CFR Correction

This rule is being published by the Office of the Federal Register to correct an editorial or technical error that appeared in the most recent annual revision of the Code of Federal Regulations.

In Title 49 of the Code of Federal Regulations, parts 200 to 299, revised as of October 1, 2021, make the following corrections:

1. Amend § 214.115 by revising paragraph (b) to read as follows:

§ 214.115 Foot protection.

* * * * *

(b) Foot protection equipment required by this section shall conform to the requirements of 29 CFR 1910.136(b), as established by the U.S. Department of Labor, Occupational Safety and Health Administration.

2. Amend § 214.117 by revising paragraph (b) to read as follows:

§ 214.117 Eye and face protection.

* * * * *

(b) Eye and face protection equipment required by this section shall conform to the requirements of 29 CFR 1910.133(b), as established by the U.S. Department of Labor, Occupational Safety and Health Administration.

* * * * *

[FR Doc. 2022-09991 Filed 5-6-22; 8:45 am]

BILLING CODE 0099-10-P